DEPARTMENT OF COMMERCE

Bureau of Industry and Security

15 CFR Part 744

[Docket No. 230407-0094]

RIN 0694-AJ21

Additions and Revisions of Entities to the Entity List

AGENCY: Bureau of Industry and Security, Department of Commerce.

ACTION: Final rule.

SUMMARY: The Bureau of Industry and Security is amending the Export Administration Regulations (EAR) by adding 28 entities under 32 entries to the Entity List. These entities are listed under the destinations of Armenia (1), the People's Republic of China (China) (12), Malta (1), Russia (10), Singapore (1), Spain (1), Syria (1), Turkey (1), the United Arab Emirates (UAE) (2), and Uzbekistan (2). Some entities are added under multiple entries, accounting for the difference in the totals. This final rule also modifies two existing entries on the Entity List under the destinations of China and Russia.

DATES: This rule is effective April 12, 2023.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List (supplement no. 4 to part 744 of the EAR (15 CFR parts 730-774)) identifies entities for which there is reasonable cause to believe, based on specific and articulable facts, that the entities have been involved, are involved, or pose a significant risk of being or becoming involved in activities contrary to the national security or foreign policy interests of the United States, pursuant to § 744.11(b). The EAR impose additional license requirements on, and limit the availability of, most license exceptions for exports, reexports, and transfers (in-country) where a listed entity is a party to the transaction. The license review policy for each listed entity is identified in the “License Review Policy” column on the Entity List, and the impact on the availability of license exceptions is described in the relevant Federal Register document that adds the entity to the Entity List. The Bureau of Industry and Security (BIS) places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and makes all decisions to remove or modify an entry by unanimous vote.

Additions to the Entity List

The ERC determined to add Allparts Trading Co., Ltd.; Avtex Semiconductor Limited; ETC Electronics Ltd.; Maxtronic International Co., Ltd.; and STK Electronics (HK) Co., Ltd, under the destination of China; ETC Electronics; Promelektronika; TD Promelektronika LLC; and OOO Vest-Ost to the Entity List under the destination of Russia for attempting to evade export controls and acquiring or attempting to acquire U.S.-origin items in support of Russia's military and/or defense industrial base. Specifically, these nine entities have continued to procure or attempt to procure items on behalf of Russian entities that have been sanctioned since Russia's further invasion of Ukraine. This activity is contrary to U.S. national security and foreign policy interests under § 744.11. These entities qualify as `military end users' under § 744.21 of the EAR and are receiving a footnote 3 designation because the ERC has determined that they are Russian or Belarusian `military end users' pursuant to § 744.21. A footnote 3 designation subjects these entities to the Russia/Belarus-Military End User Foreign Direct Product (FDP) rule, detailed in § 734.9(g). These entities are added with a license requirement for all items subject to the EAR. They are added with a license review policy of denial for all items subject to the EAR apart from food and medicine designated as EAR99, which will be reviewed on a case-by-case basis.

The ERC determined to add I JET GLOBAL DMCC under the destinations of Malta, Spain, Syria and the United Arab Emirates (UAE); and Success Aviation Services under the destination of the UAE to the Entity List for coordinating flights that assisted in the transfer of Iranian unmanned aerial vehicles (UAVs), personnel, and related equipment from Iran to Russia, ultimately contributing to Russia's military and defense industrial base. These entities are added with a license requirement for all items subject to the EAR. They are added with a license review policy of a presumption of denial.

The ERC determined to add the following 16 entities under 17 entries to the Entity List for attempting to evade export controls and acquiring or attempting to acquire U.S.-origin items in support of Russia's military and/or defense industrial base: Tako LLC, under the destination of Armenia; 3HC Semiconductors (HK) Co., Ltd.; Leadway Technology Limited; Newsuntech Electronics Limited; Wynn Electronics Co. Ltd.; Yishang Network (Shenzhen) Co., Ltd.; and Yongli Electronic Components (Shenzhen) Co., Ltd., under the destination of China; Art Logistics LLC; GFK Logistics LLC; Novastream Limited; SKS Elektron Broker LLC; Trust Logistics; and Trust Logistics Group LLC under the destination of Russia; Alfa Beta Creative LLC and GFK Logistic Asia LLC under the destination of Uzbekistan; and Xinnlinx Electronics Pte Ltd under the destinations of China and Singapore. Specifically, these entities have continued to procure items on behalf of Russian parties designated on the Entity List or on the U.S. Department of the Treasury, Office of Foreign Assets Control's List of Specially Designated Nationals and Blocked Persons (SDN List) since the Russian invasion of Ukraine. This activity is contrary to U.S. national security and foreign policy interests under § 744.11 of the EAR. These entities qualify as `military end users' under § 744.21 of the EAR and are receiving a footnote 3 designation because the ERC has determined that they are Russian or Belarusian `military end users' pursuant to § 744.21. A footnote 3 designation subjects these entities to the Russia/Belarus-Military End User Foreign Direct Product (FDP) rule, detailed in § 734.9(g). These entities are added with a license requirement for all items subject to the EAR. They are added with a license review policy of denial for all items subject to the EAR apart from food and medicine designated as EAR99, which will be reviewed on a case-by-case basis.

The ERC determined to add Dexias Industrial Products and Trade Limited Company under the destination of Turkey to the Entity List based on information that this company significantly contributes to Russia's military and/or defense industrial base and is involved in activities contrary to the national security and foreign policy interests of the United States under §§ 744.11 and 744.21 of the EAR. This entity will receive a footnote 3 designation because the ERC has determined that it is a Russian or Belarusian `military end user' in accordance with § 744.21. A footnote 3 designation subjects this entity to the Russia/Belarus-Military End User Foreign Direct Product (FDP) rule, detailed under § 734.9(g). This entity is added with a license requirement for all items subject to the EAR. License applications will be reviewed under a policy of denial for all items subject to the EAR, other than applications for food and medicine designated as EAR99, which will be reviewed on a case-by-case basis.

For the reasons described above, this final rule adds or modifies the following 28 entities under 32 entries to the Entity List and includes, where appropriate, aliases:

Armenia

• Tako LLC.

China

• 3HC Semiconductors (HK) Co., Ltd.,

• Allparts Trading Co., Ltd.,

• Avtex Semiconductor Limited,

• ETC Electronics Ltd.,

• Leadway Technology Limited,

• Maxtronic International Co., Ltd.,

• Newsuntech Electronics Limited,

• STK Electronics (HK) Co., Ltd.,

• Wynn Electronics Co. Ltd.,

• Xinnlinx Electronics Pte Ltd.,

• Yishang Network (Shenzhen) Co., Ltd., and

• Yongli Electronic Components (Shenzhen) Co., Ltd.

Malta

• I JET GLOBAL DMCC.

Russia

• Art Logistics LLC,

• ETC Electronics,

• GFK Logistics LLC,

• Novastream Limited,

• OOO Vest-Ost,

• Promelektronika,

• SKS Elektron Broker LLC,

• TD Promelektronika LLC,

• Trust Logistics, and

• Trust Logistics Group LLC.

Singapore

• Xinnlinx Electronics Pte Ltd.

Spain

• I JET GLOBAL DMCC.

Syria

• I JET GLOBAL DMCC.

Turkey

• Dexias Industrial Products and Trade Limited Company.

United Arab Emirates

• I JET GLOBAL DMCC, and

• Success Aviation Services FZC.

Uzbekistan

• Alfa Beta Creative LLC, and

• GFK Logistic Asia LLC.

Modifications to the Entity List

The ERC determined to modify one existing entry on the Entity List, “AOOK Technology Limited”, under the destination of China, to add two additional addresses.

In addition, this rule makes a conforming change to the existing entry for “Dexias Industrial Products and Trade Limited Company” under the destination of Russia. The Russian entry is revised to reference the Dexias Industrial Products and Trade Limited Company entry located under the destination of Turkey.

Savings Clause

For the changes being made in this final rule, shipments of items removed from eligibility for a License Exception or export, reexport, or transfer (in-country) without a license (NLR) as a result of this regulatory action that were en route aboard a carrier to a port of export, reexport, or transfer (in-country), on April 12, 2023, pursuant to actual orders for export, reexport, or transfer (in-country) to or within a foreign destination, may proceed to that destination under the previous eligibility for a License Exception or export, reexport, or transfer (in-country) without a license (NLR) before May 12, 2023. Any such items not actually exported, reexported or transferred (in-country) before midnight, on May 12, 2023, require a license in accordance with this final rule.

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule.

Rulemaking Requirements

1. This rule has been determined to be not significant for purposes of Executive Order 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications and commodity classifications, and carries a burden estimate of 29.4 minutes for a manual or electronic submission for a total burden estimate of 33,133 hours. Total burden hours associated with the PRA and OMB control number 0694-0088 are not expected to increase as a result of this rule.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act, 5 U.S.C. 601, et seq., are not applicable. Accordingly, no regulatory flexibility analysis is required and none has been prepared.

List of Subjects in 15 CFR Part 744

Exports, Reporting and recordkeeping requirements, Terrorism.

Accordingly, part 744 of the Export Administration Regulations (15 CFR parts 730-774) is amended as follows:

PART 744—CONTROL POLICY: END-USER AND END-USE BASED

1. The authority citation for part 744 continues to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 19, 2022, 87 FR 57569 (September 21, 2022); Notice of November 8, 2022, 87 FR 68015 (November 10, 2022).

2. Supplement No. 4 to part 744 is amended by:

a. Under ARMENIA, adding an entry in alphabetical order for “Tako LLC;”

b. Under CHINA, PEOPLE'S REPUBLIC OF:

i. Adding entries in alphabetical order for “3HC Semiconductors (HK) Co., Ltd.” and “Allparts Trading Co., Ltd.;”

ii. Revising the entry for “AOOK Technology Limited;” and

iii. Adding entries in alphabetical order for “Avtex Semiconductor Limited;” “ETC Electronics Ltd.;” “Leadway Technology Limited;” “Maxtronic International Co., Ltd.;” “Newsuntech Electronics Limited;” “STK Electronics (HK) Co., Ltd.;” “Wynn Electronics Co. Ltd.;” “Xinnlinx Electronics Pte Ltd.;” “Yishang Network (Shenzhen) Co., Ltd.,” “Yongli Electronic Components (Shenzhen) Co., Ltd.;”

c. Under MALTA, adding an entry in alphabetical order for “I JET GLOBAL DMCC;”

d. Under RUSSIA:

i. Adding an entry for “Art Logistics LLC;”

ii. Revising the entry for “Dexias Industrial Products and Trade Limited Company;” and

iii. Adding entries in alphabetical order for “ETC Electronics;” “GFK Logistics LLC;” “Novastream Limited;” “OOO Vest-Ost;” “Promelektronika;” “SKS Elektron Broker LLC;” “TD Promelektronika LLC;” “Trust Logistics;” and “Trust Logistics Group LLC;”

e. Under SINGAPORE, adding an entry in alphabetical order for “Xinnlinx Electronics Pte Ltd.;”

f. Under SPAIN, adding an entry in alphabetical order for “I JET GLOBAL DMCC;”

g. Under SYRIA adding an entry in alphabetical order for “I JET GLOBAL DMCC;”

h. Under TURKEY, adding an entry in alphabetical order for “Dexias Industrial Products and Trade Limited Company;”

i. Under UNITED ARAB EMIRATES, adding entries in alphabetical order for “I JET GLOBAL DMCC;” and “Success Aviation Services FZC;” and

j. Under UZBEKISTAN, adding entries in alphabetical order for “Alfa Beta Creative LLC;” and “GFK Logistic Asia LLC.”

The revisions and additions read as follows:

Supplement No. 4 to Part 744—Entity List

* * * * *

Country | Entity | License requirement | License review policy | Federal Register citation
* * * * * * *
ARMENIA | * * * * * *
| Tako LLC, the following one alias: -Taco LLC. 17 Garegin Nzhdehi Street, Shengavit, Yerevan, 0026, Armenia. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] April 17, 2023.
| * * * * * *
CHINA, PEOPLE'S REPUBLIC OF | 3HC Semiconductors (HK) Co., Ltd., a.k.a. the following two aliases: -Shenzhen Sanhe Technology Co., Ltd.; and -Sanhe Semiconductor. Room 605, 6/F, Fa Yuen Commercial Building, 75-77, Fa Yuen Street, Mongkok, Kowloon, Hong Kong. | For all items subject to the EAR (See §§ 734.9(g),³ 746.8(a)(3), and 744.21(b) of the EAR). | Policy of denial for all items subject to the EAR apart from food and medicine designated as EAR99, which will be reviewed on a case-by-case basis. See §§ 746.8(b) and 744.21(e) | 88 FR [INSERT FR PAGE NUMBER] April 17, 2023.
| * * * * * *
| Allparts Trading Co., Ltd., Room 2901B, Bank of Communications, Shenzhen, Futian District, China; and Room 1901H Bank of Communications, Shenzhen, Futian District, China; and Room 803, Chevalier House, 45-51 Chatham Road South, Kowloon, Tsim Sha Tsui, Hong Kong; and 4/F Building 6 Deguan Lighting Factory, No. 2 South 1st Guangzhou, China; and Room 13, 27/F, Ho King Commercial Centre, 2-16 Fa Yuen, Street, Mongkok Kowloon, Hong Kong; and 3 Garden Road Central, Hong Kong. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] April 17, 2023.
| * * * * * *
| AOOK Technology Limited, a.k.a., the following two aliases: -AOOK; and -AOOK Electronics. Rm 803 Chevalier Building 45-51 Chatham Rd S Tsim Sha Tsui Hong Kong; and 2608 Glittery City Shennanzhong Road, Futian District, Shenzhen, China; and 1206 Jiahui New Town, Futian District, Shenzhen, China. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR 12171, 2/27/23. 88 FR [INSERT FR PAGE NUMBER] April 17, 2023.
| * * * * * *
| Avtex Semiconductor Limited, 1703A, Block C, CEC Building, 2070, Shennan Middle Road, Huaqiang North, Futian District, Shenzhen, 518031, China; and Room 1003A, Fortun Harbor International Center, No. 1084 Baoyuan Road, Xixiang Street, Baoan District, Shenzhen, China; and l 7C Block C, Nr. 2070 Electronic Technology Building, Shennan Road, Futian District, Shenzhen, China; and Building A, Minsheng 2nd Road, Liukeng New Village, Shiyan Street, Baoan District, Shenzhen, China. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] April 17, 2023.
| * * * * * *
| ETC Electronics Ltd., Room 315, Fiyta Building, Zhenhua, Road No. 163, Shenzhen, China; and WHSE B DD118 Tai Shu Ha West Road New Territories, Yuen Long, Hong Kong; and Unit 2, D6, 2/F Mai Wah Industrial Building No. 1/7 Wah sing Street, Kwai Chung, New Territories, Hong Kong; and Unit 2 13/F Leader Industrial Center 57-59, Au Pui Wan Street Shatin, Hong Kong. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] April 17, 2023.
| * * * * * *
| Leadway Technology Limited, a.k.a. the following one alias: -Shenzhen United Leadway Technology. Room 812, Building 511, Bagualing Industrial Zone, Futian District, Shenzhen, Guangdong, 518028, China; and 406 Hongyi Building, Longgang District, Jihua Road, Shenzhen, Bantian, China. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] April 17, 2023.
| * * * * * *
| Maxtronic International Co., Ltd., a.k.a. the following one alias: -Maxtronic Global Limited. 2301 Dynamic World Building, Zhonghang Road, Shenzhen, Futian District, 518031, China; and Room 301 One Fuhu Street, Shenzhen, 518000, China. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] April 17, 2023.
| * * * * * *
| Newsuntech Electronics Limited, a.k.a. the following one alias: -Hong Kong New Santai Electronics Co., Ltd. Unit 205, Unit C, 2/F, Kwong On Bank Mongkok Branch Building, 728-730 Nathan Road, Mong Kok, Hong Kong; and Room 606 Chevalier House, 45-51 Chatham Road South, Tsim Sha Tsui, Kowloon, Hong Kong. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] April 17, 2023.
| * * * * * *
| STK Electronics (HK) Co., Ltd., a.k.a. the following one alias: -STK Electronics Co., Ltd. Room 1705, Block 4, Phase 2 Clound Park Bantian, Longgang District, Shenzhen City, China; and Room 2338 Guoli Plaza, Shenzhen, Futian District, Zhonghong Road, China; and Room 2607 DingCheng Building, Shenzhen, China; and Workshop 18 9/F Thriving Industrial Building, No. 26-38 Sha Tsui Road, Tsuen Wan NT, Hong Kong; and 7IF Bright, Unit 04, 33 Mong Kok Road, Hong Kong; and Unit 2D, 2nd Floor, Mai Wah Industrial Building, Nos 1/7, Wah sing Street, Kwai Chu Hong Kong; and Workshop 14 9/F, No. 26-38 Sha, Hong Kong; and 50/F Champion Tower, 3 Garden Road, Central, Hong Kong. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] April 17, 2023.
| * * * * * *
| Wynn Electronics Co. Ltd., 2818 Glittery City Shennan Middle Road, Shenzhen, China; and Unit 04,7/F Bright Way Tower No.33 Mong Kok Rd Konglong, Hong Kong; and Room 2503, Block A, Ester Times Building, Huaqiang North, Futian, 518031, Hong Kong. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] April 17, 2023.
| * * * * * *
| Xinnlinx Electronics Pte Ltd., SPB-A 1601 Overseas Decoration Building, Shenzhen, China. (See alternate address under Singapore). | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] April 17, 2023.
| * * * * * *
| Yishang Network (Shenzhen) Co., Ltd., Room 812, Building 511, Bagualing Industrial Zone, Futian District, Shenzhen, Guangdong, 518028, China. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] April 17, 2023.
| * * * * * *
| Yongli Electronic Components (Shenzhen) Co., Ltd., Room 2818, 28/F, Huishang Center, Jiahui New City, Shenzhen, 518033, China. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] April 17, 2023.
| * * * * * *
MALTA | * * * * * *
| I JET GLOBAL DMCC, a.k.a. the following five aliases: -iJet; -iJet Aviation Services; -iJET Flight Support Services; -Trade Med Middle East; and -Trade Mid Middle East. 116/8, St. George's Road, St. Julians STJ3203, Malta. (See alternate addresses under Spain, Syria, and United Arab Emirates). | For all items subject to the EAR (See § 744.11 of the EAR) | Presumption of denial | 88 FR [INSERT FR PAGE NUMBER] April 17, 2023.
| * * * * * *
RUSSIA | * * * * * *
| Art Logistics LLC, a.k.a. the following one alias: -Art of Logistics LLC. Building 32, Kirovogradskaya Street, Moscow, 117519, Russia. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] April 17, 2023.
| * * * * * *
| Dexias Industrial Products and Trade Limited Company, a.k.a., the following five aliases: -Dexias; -Dexias Endil strivel; -Dexias IPTLC; -Mainbox LLC; and -Orunler ve Ticaret Limited Sirketi. Apartment 261, Building 3, Ryabinovaya Street, Moscow. (See alternate address under Turkey). | For all items subject to the EAR. (See §§ 734.9(g),³ 744.21(b), and 746.8(a)(3) of the EAR) | Policy of denial for all items subject to the EAR apart from food and medicine designated as EAR99, which will be reviewed on a case-by-case basis. See §§ 746.8(b) and 744.21(e) | 88 FR 12171, 2/27/23. 88 FR [INSERT FR PAGE NUMBER] April 17, 2023.
| * * * * * *
| ETC Electronics, 14 Dorogobuzhskaya, Building 40, Moscow, Russia. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] April 17, 2023.
| * * * * * *
| GFK Logistics LLC, a.k.a. the following one alias: -OOO Dzhiefkei Logistiks. Building 32, Kirovogradskaya Street, Moscow, 117519, Russia. | For all items subject to the EAR (See §§ 734.9(g),³ 746.8(a)(3), and 744.21(b) of the EAR). | Policy of denial for all items subject to the EAR apart from food and medicine designated as EAR99, which will be reviewed on a case-by-case basis. See §§ 746.8(b) and 744.21(e) | 88 FR [INSERT FR PAGE NUMBER] April 17, 2023.
| * * * * * *
| Novastream Limited, a.k.a. the following two aliases: -Novastream LTD; and -Novastrim LLC. Building 2A, Suites 50 and 51, Severnaya Street, Vladimir, 600007, Russia. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] April 17, 2023.
| * * * * * *
| OOO Vest-Ost, a.k.a. the following one alias: -West-Ost. 21 Gotvalda Street, K. 2, Porn. 17, Ekaterinburg, Sverdlovskaya Oblast, 620107, Russia. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] April 17, 2023.
| * * * * * *
| Promelektronika, a.k.a. the following two aliases: -Promelectronica; and -ZAO Promelektronika. 70 Kolmogorova Street, Ekaterinburg, Sverdlovskaya Oblast, 620034, Russia. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] April 17, 2023.
| * * * * * *
| SKS Elektron Broker LLC, Building 18, Block 2, Kosmonavtov Street, Moscow, 129301, Russia; and Office 316, 3rd Floor, Sheremetyevo-2 Business Center, Khimki, Moscow Oblast, 141400, Russia; and Building 8, Domodedovo Airport Territory, Domodedovo District, Moscow Oblast, 142015, Russia; and Office 301 Vnutriportovaya Street, Nakhodka, Primorsky Oblast, 692941, Russia; and Office 701 Lenina Avenue 61A, Yaroslavl, 150054, Russia; and Office 3.076, 3n1 Floor, Building 4, 37 Pulkovskoe Highway, St. Petersburg, 196210, Russia; and Office 117, Letter Zh, 5th Verkhniy Lane, Industrial Zone Pamas, St. Petersburg, 194292, Russia; and Office 415, Business Center Osipoff, 16 Tsvetochnaya Street, St. Petersburg, 196084, Russia. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] April 17, 2023.
| * * * * * *
| TD Promelektronika LLC, a.k.a. the following one alias: -Trading House Promelektronika. 70 Kolmogorova Street, Office 209, Ekaterinburg, Sverdlovskaya Oblast, 620034, Russia; and 31 Novocherkasski Bulvar, Moscow, 109369, Russia. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] April 17, 2023.
| * * * * * *
| Trust Logistics, a.k.a. the following one alias: OOO Logistika Doveriya. Office 321, 3n1 Floor, Property 5, Territory of Sheremetyevo Airport, Khimki , Moscow Oblast, 141402, Russia; and 27 Engelsa street, floor 2, Khimki, Moscow Oblast, 141402, Russia. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] April 17, 2023.
| Trust Logistics Group LLC, a.k.a. the following one alias: OOO Trast Lodzhistiks Grupp. Room 40, Suite I, Building 92, Yurovskaya Street, Moscow, 125466, Russia; and 32kl Baryshikha Street, Moscow, 125368, Russia; and Office 321, 3rd Floor, Property 5, Territory of Sheremetyevo Airport, Khimki, Moscow Oblast, 141402, Russia; and 23 Yelizarova Street, Samara, 443051, Russia; and 92 Yurovskaya Street, Moscow, 125466, Russia. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] April 17, 2023.
| * * * * * *
SINGAPORE | * * * * * *
| Xinnlinx Electronics Pte Ltd, 152 Beach Road Gateway East Tower, #14-03, Singapore 189721. (See alternate address under China). | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] April 17, 2023.
| * * * * * *
SPAIN | * * * * * *
| I JET GLOBAL DMCC, a.k.a. the following five aliases: -iJet; -iJet Aviation Services; -iJET Flight Support Services; -Trade Med Middle East; and -Trade Mid Middle East. Plaza del Olivar, 1 4, Palma de Mallorca, Baleares H24 07002, Spain. (See alternate addresses under Malta, Syria, and United Arab Emirates). | For all items subject to the EAR (See § 744.11 of the EAR) | Presumption of denial | 88 FR [INSERT FR PAGE NUMBER] April 17, 2023.
| * * * * * *
SYRIA | I JET GLOBAL DMCC, a.k.a. the following five aliases: -iJet; -iJet Aviation Services; -iJET Flight Support Services; -Trade Med Middle East; and -Trade Mid Middle East. Damascus, Syria. (See alternate addresses under Malta, Spain, and United Arab Emirates). | For all items subject to the EAR (See § 744.11 of the EAR) | Presumption of denial | 88 FR [INSERT FR PAGE NUMBER] April 17, 2023.
| * * * * * *
TURKEY | * * * * * *
| Dexias Industrial Products and Trade Limited Company, a.k.a., the following five aliases: -Dexias; -Dexias Endil strivel; -Dexias IPTLC; -Mainbox LLC; and -Orunler ve Ticaret Limited Sirketi. Mecidivekoy Street, Trump Towers Bloc No: 12/221 Sisli/Istanbul, Turkey. (See alternate address under Russia). | For all items subject to the EAR (See §§ 734.9(g),³ 744.21(b), and 746.8(a)(3) of the EAR) | Policy of denial for all items subject to the EAR apart from food and medicine designated as EAR99, which will be reviewed on a case-by-case basis. See §§ 746.8(b) and 744.21(e) | 88 FR [INSERT FR PAGE NUMBER] April 17, 2023.
| * * * * * *
UNITED ARAB EMIRATES | * * * * * *
| I JET GLOBAL DMCC, a.k.a. the following five aliases: -iJet; -iJet Aviation Services; -iJET Flight Support Services; -Trade Med Middle East; and -Trade Mid Middle East. Unit No: 3504, 1 Lake Plaza, Plot No: JLT-PH2-T2A, Jumeirah Lakes Towers, Dubai, United Arab Emirates. (See alternate addresses under Malta, Spain, and Syria). | For all items subject to the EAR (See § 744.11 of the EAR) | Presumption of denial | 88 FR [INSERT FR PAGE NUMBER] April 17, 2023.
| * * * * * *
| Success Aviation Services FZC, a.k.a. the following three aliases: -Success Aviation; -Success Aviation FZC; and -Success Aviation Services. 608, The Apricot Tower, Dubai Silicon Oasis, Dubai, United Arab Emirates; and Building L1, Sharjah International Airport, Sharjah, United Arab Emirates. | For all items subject to the EAR (See § 744.11 of the EAR) | Presumption of denial | 88 FR [INSERT FR PAGE NUMBER] April 17, 2023.
| * * * * * *
UZBEKISTAN | Alfa Beta Creative LLC, 16A Navoi Street, Shaykhantakhur District, Tashkent, 100011, Uzbekistan. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] April 17, 2023.
| GFK Logistic Asia LLC, 16A Navoi Street, Shaykhantakhur District, Tashkent, 100011, Uzbekistan. | For all items subject to the EAR (See §§ 734.9(g),³ 746.8(a)(3), and 744.21(b) of the EAR) | Policy of denial for all items subject to the EAR apart from food and medicine designated as EAR99, which will be reviewed on a case-by-case basis. See §§ 746.8(b) and 744.21(e) | 88 FR [INSERT FR PAGE NUMBER] April 17, 2023.
| * * * * * *
* * * * * * *
³ For this entity, “items subject to the EAR” includes foreign-produced items that are subject to the EAR under § 734.9(g) of the EAR. See §§ 746.8 and 744.21 of the EAR for related license requirements, license review policy, and restrictions on license exceptions.

* * * * *

Alan F. Estevez,
Under Secretary of Commerce for Industry and Security.

[FR Doc. 2023-07840 Filed 4-12-23; 11:15 am]

BILLING CODE 3510-JT-P